DEPARTMENT OF ENERGY

Federal Energy Regulatory Commission

[Project No. 2959-148]

City of Seattle; Addendum to Notice of Intent To File License Application, Filing of Pre-Application Document (PAD), Commencement of Pre-Filing Process, and Scoping; Request for Comments on the PAD and Scoping Document, and Identification of Issues and Associated Study Requests

On May 31, 2024, we issued notice that, in part, Commission staff will hold two scoping meetings for the South Fork Tolt River Hydroelectric Project No. 2959 to receive input on the scope of the environmental document for project relicensing. An evening scoping meeting will be held at 6:00 p.m. Pacific Daylight Time (PDT) on June 25, 2024, at Cherry Creek Falls Event Center, 16533 Kelly Road Northeast, Duvall, Washington 98019. A daytime scoping meeting will be held at 9:00 a.m. PDT on June 26, 2024, at the same location. The evening meeting is primarily for receiving input from the public, while the daytime meeting will focus on resource agency, Indian tribes, and non-governmental organization concerns. Spanish-English translation services will be provided at the scoping meetings.

Dated: June 6, 2024.
Debbie-Anne A. Reese,
Acting Secretary.

[FR Doc. 2024-12866 Filed 6-11-24; 8:45 am]

BILLING CODE 6717-01-P